DEPARTMENT OF JUSTICE

Notice of Lodging of Proposed Consent Decree Under the Comprehensive Environmental Response, Compensation and Liability Act

On January 30, 2019, the Department of Justice lodged a proposed Consent Decree with the United States District Court for the District of New Jersey in the lawsuit entitled United States v. The Sherwin-Williams Company, Civil Action No. 1:19-cv-01907.

The complaint in this case, brought under the Comprehensive Environmental Response, Compensation and Liability Act, 42 U.S.C. 9601, et seq., seeks the recovery of costs incurred by the U.S. Environmental Protection Agency (“EPA”) in response to the release of hazardous substances at the Sherwin-Williams/Hilliards Creek Site, Route 561 Dump Site, and United States Avenue Burn Site (the “Sites”), located in Gibbsboro and Voorhees, New Jersey, and the performance of the soils and sediments operable unit remedy selected by EPA for the United States Avenue Burn Site. Under the proposed consent decree, The Sherwin-Williams Company will reimburse the United States $1,460,758.94 for EPA past costs relating to the Sites and will perform the United States Avenue Burn Site soils and sediments operable unit remedy. The proposed decree also includes a mechanism that provides for the potential incorporation into the decree of performance by Sherwin-Williams of additional operable unit remedies that will be selected by EPA for the Sites.

The publication of this notice opens a period for public comment on the proposed consent decree. Comments should be addressed to the Assistant Attorney General, Environment and Natural Resources Division, and should refer to United States v. The Sherwin-Williams Company, D.J. Ref. No. 90-11-3-09023/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $21.25 (25 cents per page reproduction cost) payable to the United States Treasury.

Robert Maher,
Assistant Section Chief, Environmental Enforcement Section, Environment and Natural Resources Division.

[FR Doc. 2019-01020 Filed 2-4-19; 8:45 am]

BILLING CODE 4410-15-P